ENVIRONMENTAL PROTECTION AGENCY

[FRL-9968-52-Region 6]

Notice of Final NPDES General Permit; Final NPDES General Permit for New and Existing Sources and New Dischargers in the Offshore Subcategory of the Oil and Gas Extraction Category for the Western Portion of the Outer Continental Shelf of the Gulf of Mexico (GMG290000)

AGENCY: Environmental Protection Agency (EPA).

ACTION: Notice of Final NPDES General Permit.

SUMMARY: The Director of the Water Division, EPA Region 6 today provides notice that the National Pollutant Discharge Elimination System (NPDES) General Permit No. GMG290000 for existing and new sources and new dischargers in the Offshore Subcategory of the Oil and Gas Extraction Point Source Category, located in and discharging to the Outer Continental Shelf offshore of Louisiana and Texas was reissued on September 19, 2017, with an effective date of October 1, 2017. The discharge of produced water to that portion of the Outer Continental Shelf from Offshore Subcategory facilities located in the territorial seas of Louisiana and Texas is also authorized by this permit.

DATES: This permit was issued September 19, 2017, is effective on October 1, 2017, and expires September 30, 2022. This effective date is necessary to provide dischargers with the immediate opportunity to comply with Clean Water Act requirements in light of the expiration of the 2012 permit on September 30, 2017. In accordance with 40 CFR 23, this permit shall be considered issued for the purpose of judicial review on October 16, 2017. Under section 509(b) of the CWA, judicial review of this general permit can be held by filing a petition for review in the United States Court of Appeals within 120 days after the permit is considered issued for judicial review. Under section 509(b)(2) of the CWA, the requirements in this permit may not be challenged later in civil or criminal proceedings to enforce these requirements. In addition, this permit may not be challenged in other agency proceedings. Deadlines for submittal of notices of intent are provided in Part I.A.2 of the permit.

FOR FURTHER INFORMATION CONTACT: Ms. Evelyn Rosborough, Region 6, U.S. Environmental Protection Agency, 1445 Ross Avenue, Dallas, Texas 75202-2733. Telephone: (214) 665-7515. Email: rosborough.evelyn@epa.gov.

SUPPLEMENTARY INFORMATION: Notice of the proposal of the draft permit was published in the Federal Register on May 11, 2017. EPA Region 6 has considered all comments received and makes several significant changes as listed below. A copy of the Region's responses to comments and the final permit may be found online from the Federal eRulemaking Portal: http://www.regulations.gov with Docket ID No EPA-R6-OW-2017-0217. Significant changes include:

1. An operator is not required to file eNOI 24-hour in advance to obtain permit coverage;

2. An operator has up to one year after termination of lease ownership to file a Notice of Termination (NOT);

3. In a case-by-case circumstance, the primary operator may require day-to-day or vessel operators to file their own eNOIs for dual coverages;

4. Drilling vessels performing jobs within the same lease block may file one NOI for coverage;

5. Bridged facilities may file one eNOI;

6. In the event the eNOI system is temporarily unavailable, a written temporary NOI filed with certification and signature is good for seven days from the day of filing, but must be followed up with an eNOI;

7. Existing permittees covered under the 2012 permit will be covered by this permit until April 1, 2018, with eNOIs to continue coverage due on or before that date;

8. An oil and grease confirmation sample shall be taken within two hours after sheen is observed from produced water discharge;

9. Toxicity testing frequency for produced water discharges remains the same as in the previous permit;

10. Existing dischargers under the 2012 permit shall commence testing schedules in the 2017 permit as of the effective day of this permit;

11. Additional toxicity testing for produced water after an application of well treatment, completion or workover fluids is not required; information on these discharges will be collected as part of the well treatment, completion, and workover fluids (TCW) Studies;

12. The deadlines for operators to submit the Industry-wide Study Plan and the final report for well treatment, completion, and workover fluids are changed;

13. A condition which requires operators to flush and capture hydrate control fluids or pipeline brine contained in pipelines, umbilical, or jumpers before or at the time of abandonment is removed from the final permit;

14. Fixed monitoring frequency is replaced with tier-approach monitoring frequency for intake velocity through the cooling water intake structure; and

15. An exception to allow operators to submit SEAMAP data instead of entrainment monitoring is added.

16. Monitoring exception for sanitary and domestic waste discharges using approved Marine Sanitation Devices (MSDs) from previous permit was reinstated.

Other Legal Requirements

Executive Order 12866: Regulatory Planning and Review and Executive Order 13563: Improving Regulation and Regulatory Review

Under Executive Order 12866 (58 FR 51735, October 4, 1993), this action is a “significant regulatory action.” Accordingly, EPA submitted this action to the Office of Management and Budget (OMB) for review under Executive Orders 12866 and 13563 (76 FR 3821, January 21, 2011) and any changes made in response to OMB recommendations have been documented in the docket for this action.

Consideration of Other Federal or State Laws. State certification under section 401 of the CWA; consistency with the State Coastal Management Program; and compliance with National Environmental Policy Act, Endangered Species Act, Magnuson-Stevens Fishery Conservation and Management Act, Historic Preservation Act, Paperwork Reduction Act, and Regulatory Flexibility Act are discussed in the Region's Final Permit Fact Sheet.

Dated: September 19, 2017.
William B. Honker,
Director, Water Division, EPA Region 6.

[FR Doc. 2017-21108 Filed 9-29-17; 8:45 am]

BILLING CODE 6560-50-P